DEPARTMENT OF COMMERCE

International Trade Administration

North American Free Trade Agreement (NAFTA), Article 1904 Binational Panel Review: Notice of NAFTA Final Panel Decision and Order

AGENCY: United States Section, NAFTA Secretariat, International Trade Administration, Department of Commerce.

ACTION: Notice of NAFTA Final Binational Panel Decision and Order in the matter of Softwood Lumber Injury from Canada (Secretariat File Number: USA-CDA-2018-1904-03).

SUMMARY: On May 22, 2020, the Binational Panel issued its Final Decision and Order in the matter of Softwood Lumber Injury from Canada (Determination on Remand). The Binational Panel affirmed the United States International Trade Commission's Determination on Remand.

FOR FURTHER INFORMATION CONTACT: Paul E. Morris, United States Secretary, NAFTA Secretariat, Room 2061, 1401 Constitution Avenue NW, Washington, DC 20230, (202) 482-5438, tradeagreementssecretariat@trade.gov.

SUPPLEMENTARY INFORMATION: Chapter 19 of Article 1904 of NAFTA provides a dispute settlement mechanism involving trade remedy determinations issued by the Government of the United States, the Government of Canada, and the Government of Mexico. Following a Request for Panel Review, a Binational Panel is composed to review the trade remedy determination being challenged and issue a binding Panel Decision. There are established NAFTA Rules of Procedure for Article 1904 Binational Panel Reviews (Rules) and the NAFTA Panel Decision has been notified in accordance with Rule 70. For the complete Rules and access to the Final Panel Decision and Order, please see https://www.nafta-sec-alena.org.

Dated: June 4, 2020.
Paul E. Morris,
U.S. Secretary, NAFTA Secretariat.

[FR Doc. 2020-12511 Filed 6-9-20; 8:45 am]

BILLING CODE 3510-GT-P